DEPARTMENT OF LABOR

Office of the Secretary

Submission for OMB Review; Comment Request

June 13, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or E-Mail: King.Darrin@dol.gov.

Comments should be sent to Office of Information and Regulatory Affairs, Attn: OMB Desk Officer for the Employment and Training Administration (ETA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment and Training Administration.

Type of Review: Revision of a currently approved collection.

Title: Standard Job Corps Request for Proposal and Related Contractor Information Gathering.

OMB Number: 1205-0219.

Affected Public: Business or other for-profit; Not-for-profit institutions; Federal Government; and State, Local, or Tribal Government.

Type of Response: Recordkeeping and Reporting.

Number of Respondents: 188.

Information collection requirement | Annual responses | Frequency | Average response time (hours) | Annual burden hours
Request for Proposals (RFP):
RFP—Experience Contractor | 27 | Annually | 300.00 | 8,100
RFP—Inexperience Contractor | 9 | Annually | 800.00 | 7,200
Sub-total: | 36 |  |  | 15,300
Automated Forms:
Center Financial Report—ETA-2110 | 1,192 | 90@12/year 28@4/year | 1.00 | 1,192
Center Operations Budget—ETA-2181/2181A | 270 | 3x/year | 1.00 | 270
Sub-total: | 1,462 |  |  | 1,462
Center Information Data Collection:
Job Corps Utilization Summary—ETA-6-127 | 1,416 | Monthly | 0.02 | 24
Disciplinary Discharge—ETA-6-131A | 1,500 | Annually | 0.02 | 25
Review Board Hearings—ETA-6-131B | 1,500 | Annually | 0.02 | 25
Rights to Appeal—6-131C | 1,500 | Annually | 0.02 | 25
Student Profile—ETA-6-40 | 1,500 | Annually | 0.02 | 25
Notice of Termination—ETA-6-61 | 1,500 | Annually | 0.02 | 25
Property Inventory Transcription—ETA3-28 | 6,552 | Weekly | 0.05 | 328
Sub-total: | 15,468 |  |  | 476
Non-automated Forms:
Job Corps Health Staff Activity—ETA-6-125 | 118 | Annually | 0.42 | 49
Job Corps Health Annual Service Cost—ETA-6-128 | 118 | Annually | 0.42 | 49
Immunization Record—ETA-6-112 | 71,000 | Annually | 0.08 | 5,917
CM Health Record Envelope—ETA-6-135 | 71,000 | Annually | 0.22 | 15,383
CM Health Record Envelope—ETA-6-136 | 71,000 | Annually | 0.22 | 15,383
Inspection Residential and Education Facilities—ETA-6-37 | 472 | Quarterly | 0.08 | 39
Inspection Waste Treatment Facilities Cost—ETA-6-39 | 92 | Quarterly | 1.42 | 131
Inspection Water Supply Facilities—ETA-6-38 | 472 | Quarterly | 1.42 | 670
Sub-total: | 214,272 |  |  | 37,622
Other Plans:
Center Operations Plan | 90 | Annually | 30.00 | 2,700
Maintenance | 118 | Annually | 5.00 | 590
C/M Welfare | 118 | Annually | 2.00 | 236
Annual VST | 118 | Annually | 24.00 | 2,832
Annual Staff Training | 118 | Annually | 1.00 | 118
Energy Conservation | 118 | Annually | 5.00 | 590
Outreach | 118 | Annually | 2.00 | 236
Sub-total: | 798 |  |  | 7,302
Grand Total: | 232,036 |  |  | 62,162

Total Annualized Capital/Startup Costs: $0.

Total Annual Costs (operating/maintaining systems or purchasing services): $0.

Description: This collection of information encompasses ETA's Standard Request for Proposal for the operation of a Job Corps Center completed by prospective contractors for competitive procurement and Federal paperwork requirements for contract operators of Job Corps centers. Job Corps is authorized by Title I, Subtitle C, of the Workforce Investment Act of 1998. Implementing rules for the Job Corps are found at 20 CFR part 670.

Ira L. Mills,
Departmental Clearance Officer.

[FR Doc. 03-16297 Filed 6-26-03; 8:45 am]

BILLING CODE 4510-30-P